ENVIRONMENTAL PROTECTION AGENCY

[ER-FRL-6644-3]

Environmental Impact Statements; Notice of Availability

RESPONSIBLe AGENCY: Office of Federal Activities, General Information (202) 564-7167 or http://www.epa.gov/compliance/nepa/.

Weekly receipt of Environmental Impact Statements

Filed September 22, 2003 Through September 26, 2003

Pursuant to 40 CFR 1506.9.

EIS No. 030429, Draft EIS, FHW, TN, Appalachian Development Highway System Corridor K (Relocated Highway U. S. 64), Improvements from West of the Ocoee River to TN-68 near Ducktown, Funding, U.S. Army Corps Section 10 and 404 Permits, Polk County, TN, Comment Period Ends: January 15, 2004, Contact: Bobby W. Blackmon (615) 781-5770.

EIS No. 030430, Final EIS, COE, TX, Gulf Intracoastal Waterway in the Laguna Madre, Maintenance Dredging from the JFK Causeway to the Old Queen Isabella Causeway, Nueces, Kleberg, Kenedy, Willacy and Cameron County, TX, Wait Period Ends: November 3, 2003, Contact: Dr. Terry Roberts (409) 766-3035. This document is available on the Internet at: http://www.swg.usace.army.mil/.

EIS No. 030431, Final EIS, AFS, NM, Bluewater Ecosystem Management Project, Proposes to Initiate Vegetation Treatments to Restore Ponderosa Pine and Pinon-Juniper Stands to a Desired Condition, Cibola National Forest, Mt. Taylor Ranger District, McKinley and Cibola Counties, NM, Wait Period Ends: November 3, 2003, Contact: Chuck Hagerdon (505) 287-8833.

EIS No. 030432, Draft EIS, AFS, OR, Toolbox Fire Recovery Project, Promote the Recovery of the Toolbox Complex Fires of July 2002, Fremont-Winema National Forest, Silver Lake Ranger District, Lake County, OR, Comment Period Ends: November 17, 2003, Contact: Rick Elston (541) 576-7569. This document is available on the Internet at: http://www.fs.fed.us/r6/winema/management/analyses/toolbox/index.shtm1.

EIS No. 030433, Final EIS, BLM, WY, Snake River Resource Management Plan, BLM-Administrated Public Land and Resources Allocation and Management, Snake River, Jackson Hole, Teton County, WY, Wait Period Ends: November 3, 2003, Contact: Walt George (307) 775-6116.

EIS No. 030434, Final EIS, AFS, ID, North End Sheep Allotment Management Plan (AMP) Revision, Proposal to Authorize Continued Livestock Use, Caribou-Targhee National Forest, Soda Springs Ranger District, Caribou and Bonneville Counties, ID, Wait Period Ends: November 3, 2003, Contact: Derek Hinckley (208) 547-4356.

EIS No. 030435, Draft EIS, BLM, OR, Andrews Management Unit/Steens Mountain Cooperative Management and Protection Area Resource Management Plan, Implementation, Harney and Malheur Counties, OR, Comment Period Ends: December 31, 2003, Contact: Gary Foulkes (541) 573-4541.

EIS No. 030436, Final EIS, FRC, NY, St. Lawrence-FDR Hydroelectric Project, Application for New License (Relicense), (FERC No. 200-036), Located on the St. Lawrence River, Messina, NY, Wait Period Ends: November 3, 2003, Contact: Ed Lee (202) 502-6082. This document is available on the Internet at: http://www.ferc.gov.

EIS No. 030437, Draft EIS, IBR, CA, Pajaro Valley Water Management Agency (PVWMA) Revised Basin Management Plan Project, Connection of PVWMA Pipeline to the Santa Clara Conduit of the Central Valley Project (CVP), Santa Cruz, Monterey and San Berito Counties, CA, Comment Period Ends: December 2, 2003, Contact: Lynne Silva (559) 487-5807.

EIS No. 030438, Final EIS, FHW, WA, Cross-Base Highway Project (WA-704), New Roadway Construction between I-5 at the Thorne Lane Interchange and WA-7 at 176th Street South Major Investment Study (MIS) and US Army COE Section 404 Permit Issuance, Pierce County, WA, Wait Period Ends: November 14, 2003, Contact: Steve Saxton (360) 753-9411.

EIS No. 030439, Draft EIS, AFS, WY, Blackhall-McAnulty Analysis Area, Proposal to Reduce the Spread of Dwarf Mistletoe and Mountain Pine Beetle in Lodgepole Pine Stands, Brush Creek/ Hayden Ranger District, Medicine Bow-Routt National Forests and Thunder Basin National Grassland, Carbon County, WY, Comment Period Ends: November 17, 2003, Contact: Terry Delay (307) 326-2518. This document is available on the Internet at: http://www.fs.fed.us/mrnf.

EIS No. 030440, Draft EIS, GSA, DC, Southeast Federal Center Development, Land Transfer for Mixed-Use Development of Residences, Offices, Shops, a Waterfront Park and Cultural Amenities, Implementation, DC, Comment Period Ends: November 19, 2003, Contact: Arthur Turowski (202) 708-5891.

EIS No. 030441, Final EIS, AFS, ID, Salmon-Challis National Forest Noxious Weed Management Program, Integrated Series of Weed Treatment and Non-Treatment Practices Implementation, Custer, Lemhi, Butte and Blaine Counties, ID, Wait Period Ends: November 3, 2003, Contact: William Diage (208) 756-5567.

EIS No. 030442, Draft EIS, USA, HI, Transformation of the 2nd Brigade, 25th Infantry Division (Light) to a Stryker Brigade Combat Team in Hawai'i, Implementation, Honolulu and Hawai'i Counties, HI, Comment Period Ends: November 17, 2003, Contact: Cindy Barger (808) 438-4812. This document is available on the Internet at: http://www.sbcteis.com.

EIS No. 030443, Draft EIS, FHW, OH, IN, US-24 Transportation Improvements Project, from Interstate 469 in New Haven, Indiana to Ohio Route 15 in Defiance, Funding, NPDES Permit and US Army COE Section 404 Permit, Westernmost and Allen Counties, IN and Paulding and Defiance Counties, OH, Comment Period Ends: November 21, 2003, Contact: Mark L. Vonder Embse (614) 280-6854.

EIS No. 030444, Final EIS, NRS, OK, Cavalry Creek Watershed Supplemental Plan for Floodwater Retarding Structure No. 6, Washita River Basin, Washita County, OK, Wait Period Ends: November 3, 2003, Contact: M. Darrel Dominick (405) 742-1206.

EIS No. 030445, Final EIS, NPS, MN, Grand Portage National Monument General Management Plan, Implementation, Cook County, MN, Wait Period Ends: November 3, 2003, Contact: Tim Cochrane (218) 387-2788.

EIS No. 030446, Draft Supplement, FTA, NC, South Corridor Downtown Amendment Project, Evaluate a Downtown Portland Mall Light Rail Transit (LRT) Alignment to the I-205 Light Rail Transit Alternative, Funding, Clackamas and Multnomah Counties, OR, Comment Period Ends: November 17, 2003, Contact: Sharon Kelly (503) 797-1756.

EIS No. 030447, Final EIS, SFW, CA, Western Riverside County Multiple Species Habitat Conservation Plan (MSHCP), Implementation, Incidental Take Permits Issuance, Riverside and Orange County, CA, Comment Period Ends: November 3, 2003, Contact: Jim Bartel (760) 431-9440.

EIS No. 030448, Draft EIS, FHW, FL, Indian Street Bridge PD&E Study, New Bridge Crossing of the South Fork of the St. Lucie River County Road 714 (Martin Highway)/SW 36th Street/ Indian Street from Florida's Turnpike to East of Willoughby Boulevard, Martin County, FL, Comment Period Ends: December 1, 2003, Contact: James Mathews (850) 942-9650.

Amended Notices

EIS No. 030333, Draft EIS, IBR, CA, Battle Creek Salmon and Steelhead Restoration Project, Restoring Habitat in Battle Creek and Tributaries, License Amendment Issuance, Implementation, Tehama and Shasta Counties, CA, Comment Period Ends: October 16, 2003, Contact: Mary Marshall (916) 978-5248. Revision of FR Notice Published on 7/25/2003: CEQ Comment Period Ending 9/22/2003 has been Extended to 10/16/2003.

Dated: September 22, 2003.
Ken Mittelholtz,
Environmental Protection Specialist, Office of Federal Activities.

[FR Doc. 03-25139 Filed 10-2-03; 8:45 am]

BILLING CODE 6560-60-P